DEPARTMENT OF HEALTH AND HUMAN SERVICES

National Institutes of Health

National Institute of Mental Health; Notice of Workgroup Meeting

Notice is hereby given of a meeting of the Strategic Plan Workgroup (SPWG) organized by the Interagency Autism Coordinating Committee (IACC).

Audio of this workgroup meeting will be accessible to the public via a teleconference phone link, and there will be web-based access to information displayed at the meeting via computer/projector. Access information will be posted on the IACC Web site: (http://www.nimh.nih.gov/research-funding/scientific-meetings/recurring-meetings/iacc/events/index.shtml); to request reasonable accommodation, contact Tanya Pryor at pryort@mail.nih.gov. Due to the space limitation of the Conference Room, attendance at the meeting itself will be limited to SPWG and IACC members. The purpose of this meeting is to discuss current funding for Autism Spectrum Disorder (ASD) research, as well as organize and tentatively prioritize proposed research initiatives that will be used to develop the IACC strategic plan for ASD research. Research priorities will be discussed at the next meeting of the IACC on May 12, 2008.

Name of Committee: Interagency Autism Coordinating Committee (IACC).

Type of meeting: Strategic Planning Workgroup.

Date: April 21, 2008.

Time: 11 a.m. to 6 p.m.

Agenda: Review of ongoing ASD research, proposed funding initiatives, and research resources; discussion and characterization of high priority research areas for developing the IACC strategic plan for ASD research.

Place: National Institutes of Health, Neuroscience Center, Conference Room D, 6001 Executive Blvd., Bethesda, MD 20892-9669.

Contact Person: Tanya Pryor, National Institute of Mental Health, NIH, 6001 Executive Boulevard, NSC, Room 6198, Bethesda, MD 20892-9669, 301-443-7153, pryort@mail.nih.gov.

Information about the IACC is available on the Web site: http://www.nimh.nih.gov/research-funding/scientific-meetings/recurring-meetings/iacc/index.shtml.

Dated: March 27, 2008.
Jennifer Spaeth,
Director, Office of Federal Advisory Committee Policy.

[FR Doc. E8-6710 Filed 4-1-08; 8:45 am]

BILLING CODE 4140-01-P